NUCLEAR REGULATORY COMMISSION

[Docket No. 50-368]

Entergy Operations, Inc.; Notice of Receipt of Application for Renewal of Facility Operating License No. NPF-6 for an Additional 20-Year Period

The U.S. Nuclear Regulatory Commission (NRC or Commission) has received an application, dated October 14, 2003, from the Entergy Operations, Inc., filed pursuant to Section 103b of the Atomic Energy Act of 1954, as amended, and 10 CFR Part 54, to renew Operating License No. NPF-6 for the Arkansas Nuclear One, Unit 2. Renewal of the license would authorize the applicant to operate the facility for an additional 20-year period. The current operating license for the Arkansas Nuclear One, Unit 2, expires on July 17, 2018. The Arkansas Nuclear One, Unit 2, is a pressurized-water reactor designed by Combustion Engineering Company and is located in Pope County, Arkansas. The acceptability of the tendered application for docketing, and other matters including an opportunity to request for a hearing, will be addressed in subsequent Federal Register notices.

Copies of the application are available for public inspection at the Commission's Public Document Room (PDR), located at One White Flint North, 11555 Rockville Pike (first floor), Rockville, Maryland, or electronically from the Publicly Available Records (PARS) component of the NRC's Agencywide Documents Access and Management System (ADAMS) under accession number ML032890483. The ADAMS Public Electronic Reading Room is accessible from the NRC Web site at http://www.nrc.gov/reading-rm/adams.html. In addition, the application is available on the NRC web page at http://www.nrc.gov/reactors/operating/licensing/renewal/applications.html, while the application is under review. Persons who do not have access to ADAMS or who encounter problems in accessing the documents located in ADAMS, should contact the NRC's PDR Reference staff at 1-800-397-4209, (301) 415-4737, or by email to pdr@nrc.gov.

The license renewal application is also available to local residents near the Arkansas Nuclear One at the Ross Pendergraft Library and Technology Center at the Arkansas Tech University in Russellville, Arkansas.

Dated at Rockville, Maryland, this 21st day of October 2003.
For the Nuclear Regulatory Commission.
Pao-Tsin Kuo,
Program Director, License Renewal and Environmental Impacts Division of Regulatory Improvement Programs, Office of Nuclear Reactor Regulation.

[FR Doc. 03-26891 Filed 10-23-03; 8:45 am]

BILLING CODE 7590-01-P